DEPARTMENT OF TRANSPORTATION

National Highway Traffic Safety Administration

[Docket No. NHTSA-2008-0018; Notice 2]

Nissan North America, Inc.; Grant of Petition for Decision of Inconsequential Noncompliance

Nissan North America, Inc. (Nissan), has determined that certain vehicles that it manufactured during the period of April 5, 2007 to July 25, 2007, did not fully comply with paragraph S4.3(b) of 49 CFR 571.110 (Federal Motor Vehicle Safety Standards (FMVSS) No. 110 Tire Selection and Rims for Motor Vehicles With a GVWR of 4,536 Kilograms (10,000 Pounds) or Less). On November 6, 2007, Nissan filed an appropriate report pursuant to 49 CFR part 573, Defect and Noncompliance Responsibility and Reports identifying approximately 321 model year 2008 Nissan Titan E-grade trucks manufactured from April 5 to July 25, 2007, that do not comply with the paragraphs of FMVSS No. 110 cited above.

Pursuant to 49 U.S.C. 30118(d) and 30120(h) and the rule implementing those provisions at 49 CFR part 556, Nissan has petitioned for an exemption from the notification and remedy requirements of 49 U.S.C. chapter 301 on the basis that this noncompliance is inconsequential to motor vehicle safety. Notice of receipt of the petition was published, with a 30-day public comment period, on February 6, 2008 in the Federal Register (73 FR 7031). No comments were received. To view the petition and all supporting documents log onto the Federal Docket Management System (FDMS) Web site at: http://www.regulations.gov/. Then follow the online search instructions to locate docket number “NHTSA-2008-0018.”

For further information on this decision, contact Mr. John Finneran, Office of Vehicle Safety Compliance, the National Highway Traffic Safety Administration (NHTSA), telephone (202) 366-0645, facsimile (202) 366-7097.

Paragraph S4.3(b) of 49 CFR 571.110 requires in pertinent part that:

S4.3 Placard. Each vehicle * * * shall show the information specified in S4.3 (a) through (g) * * * on a placard permanently affixed to the driver's side B-pillar * * *

(b) Designated seated capacity (expressed in terms of total number of occupants and number of occupants for each front and rear seat location)

Nissan described the noncompliance as an incorrect total vehicle seating capacity being shown on the tire information placards affixed to the subject vehicles.

Specifically, the subject placards incorrectly show the total vehicle seating capacity as six, with three seating positions in the front row, and three seating positions in the second row.

Nissan explained that the subject E-grade Titan trucks are equipped with optional two front bucket seats. This configuration makes available two seats in the front row and three in the back row for a total of five seating positions.

Nissan stated its belief that the space between the two front bucket seats is occupied by a hard plastic console with cup holders that cannot be used or mistaken for a seating position.

Nissan further supported its belief that the noncompliance is inconsequential to motor vehicle safety for the following reasons:

1. The front center console area of this vehicle cannot be mistaken for a seating position because the center console is low to the floor, has molded-in cup holders, has no padded/cushioned area, and has no provisions for seatbelts. It is apparent to any observer that there are only two front seating positions. Even if an occupant referenced the tire information placard to determine the vehicle's front seating capacity, it is readily apparent that the total capacity is five and not six and front row capacity is two and not three.

2. Because the subject vehicle cannot be occupied by more than five people, there is no risk of vehicle overloading.

3. The vehicle capacity weight (expressed as a total weight for passengers and cargo) on the placard is correct. The seating capacity error has no impact on the vehicle capacity weight.

4. All other applicable requirements of FMVSS No. 110 have been met.

Nissan also states that there have been no customer complaints, injuries, or accidents related to the incorrect seating capacity of the subject tire information placard.

Additionally, Nissan stated that it believes that because the noncompliance is inconsequential to motor vehicle safety that no corrective action is warranted.

After receipt of the petition, Nissan also informed NHTSA that it has corrected the problem that caused these errors so that they will not be repeated in future production.

NHTSA Decision

NHTSA agrees with Nissan that the noncompliance is inconsequential to motor vehicle safety. As Nissan states, because the vehicles have a center console mounted between the front two seating positions and no provisions to accommodate restraint for a center occupant, it is obvious that the front row seating capacity is two and not three. Therefore, overloading the vehicles is unlikely because the space between the front row bucket seats is clearly not intended to be a seating position. As Nissan additionally points out, the other information on the tire information placard is correct.

In consideration of the foregoing, NHTSA has decided that Nissan has met its burden of persuasion that the labeling noncompliances described are inconsequential to motor vehicle safety. Accordingly, Nissan's petition is granted and the petitioner is exempted from the obligation of providing notification of, and a remedy for, the noncompliances under 49 U.S.C. 30118 and 30120.

Authority: 49 U.S.C. 30118, 30120; delegations of authority at 49 CFR 1.50 and 501.8.

Issued on: July 10, 2008.
Daniel C. Smith,
Associate Administrator for Enforcement.

[FR Doc. E8-16179 Filed 7-15-08; 8:45 am]

BILLING CODE 4910-59-P